POSTAL REGULATORY COMMISSION

[Docket Nos. MC2009-27 and CP2009-37; Order No. 231]

Priority Mail Contract

AGENCY: Postal Regulatory Commission.

ACTION: Notice.

SUMMARY: Commission Order No. 231, which addresses a new Priority Mail contract, was inadvertently submitted to the Federal Register for publication in the Notices category. It appeared in that category on July 16, 2009 (74 FR 34598). Order No. 231 should have been submitted for publication in the “Rules” category, as this would have effectuated an intended change in the Code of Federal Regulations. The Commission is withdrawing the referenced Notice document and is submitting Order No. 231 for publication in the appropriate category.

FOR FURTHER INFORMATION CONTACT: Stephen L. Sharfman, general counsel, 202-789-6820 or stephen.sharfman@prc.gov.

Judith M. Grady,
Acting Secretary.

[FR Doc. E9-17811 Filed 7-24-09; 8:45 am]

BILLING CODE 7710-FW-P